DEPARTMENT OF HEALTH AND HUMAN SERVICES

Administration for Children and Families

[Program Announcement No. ACF/ACYF-PA-HS-2001-02A]

Fiscal Year 2001 Discretionary Announcement for Select Service Areas of Early Head Start; Availability of Funds and Request for Applications

AGENCY: Administration on Children, Youth and Families, ACF, DHHS.

ACTION: Correction.

SUMMARY: This document contains a correction to the Notice that was published in the Federal Register on Wednesday September 13, 2000.

On page 55256, in the State of Arkansas, in the County column add the following Counties: “Arkansas”, “Lonoke” and “Polk”. In the Funding column delete “$1,295,089” and replace with “$1,333,689”. In the Current service area column add “Entire County” beside each of these counties: Arkansas, Lonoke and Polk.

On page 55257, in the State of Iowa, Polk County, in the Current service area column, delete “City of Des Moines metropolitan area” and replace with “in the City of Des Moines an area bounded on the West by the County line from Raccoon River to 9400 N; on the North by 9400 N to NW 58th to NW 110th Place to NE 22nd Street to NE 118th Street; on the East by NE 29th to I-80 to NE 120th Street to East University to NE 64th Street to SE 6th to SE 60th to the Des Moines River to I-65 to 80th SW; and on the South by 80th SW/County line from Des Moines River to 9800 W.”

On page 55257, in the State of Maine, in the County Column delete “Southern Oxford County” and replace with “Oxford County”; and in the Current service area column delete “Grafton, Andover, North Surplus and Byron” and replace with “Southern part of the County including all towns South of Grafton, Andover North Surplus and Byron”.

On page 55257, in the State of Maryland, in Montgomery County, in the Funding for the following counties column, delete “$782,515” and replace with “$1,090,711”; and in the current service area column delete “Rockville South of Route 28, Silver Spring and Tacoma Park” and replace with “Rockville, Silver Spring and Takoma Park”. On page 55258, in the State of Maryland, in Prince George's County, in the Current service area column, delete “Hyattsville, Riverdale and Langley Park” and replace with “Hyattsville, Riverdale, Adelphi/Langley Park, College Park, Greenbelt, Glen Arden, Landover and Capitol Heights”.

On page 55258, in the State of Minnesota, in Hennepin County, in the Current service area column delete “American Indian children and families from the communities of North Minneapolis, Phillips, and Northeast Minneapolis” and replace with “North Minneapolis, Phillips, and Northeast Minneapolis”.

On page 55259, in the State of New York, in Kings County, add “$769,189” in the Funding for the following counties column.

On page 55259, in the State of Rhode Island, Providence County, in the Funding for the following counties column delete “$97,720” and replace with “$297,720”.

FOR FURTHER INFORMATION CONTACT: The ACYF Operations Center at 1-800-351-2293 or send an email to ebs@lcgnet.com. You can also contact Judith Jerald, Early Head Start, Head Start Bureau at (202) 205-8074.

Dated: September 28, 2000.
Patricia Montoya,
Commissioner, Administration on Children, Youth and Families.

[FR Doc. 00-25494 Filed 10-4-00; 8:45 am]

BILLING CODE 4184-01-M